DEPARTMENT OF THE INTERIOR

Bureau of Land Management

[LLNM004200.L13200000.GA0000]

Notice of Intent To Prepare a Resource Management Plan Amendment (RMPA) and Associated Environmental Assessment Addressing Four Federal Coal Lease Applications in Haskell and LeFlore Counties, OK

AGENCY: Bureau of Land Management, Interior.

ACTION: Notice of Intent.

SUMMARY: In compliance with the National Environmental Policy Act (NEPA) of 1969, as amended, and the Federal Land Policy and Management Act of 1976, as amended, the Bureau of Land Management (BLM) Oklahoma Field Office intends to prepare an amendment to the 1994 Oklahoma Resource Management Plan, as amended, and associated Environmental Assessment (EA) in response to four coal lease applications covering lands in Haskell and LeFlore Counties, Oklahoma. By this notice, the Oklahoma Field Office announces the beginning of the scoping process to solicit public comments and identify issues.

DATES: This notice initiates the public scoping process for the Draft Resource Management Plan (RMP) amendment/EA. Comments on issues may be submitted in writing until August 8, 2011. The date(s) and location(s) of any scoping meetings will be announced at least 15 days in advance through local media, newspapers and the BLM Web site at: http://www.blm.gov/nm/st/en/fo/Oklahoma_Field_Office.html. We will provide additional opportunities for public participation upon publication of the Draft RMP amendment/EA.

Comments: You may submit comments on issues and planning criteria related to the four Federal coal lease applications in Haskell and LeFlore Counties, Oklahoma, RMP amendment/EA by any of the following methods:

• E-mail: rwymer@blm.gov.

• Fax: (918) 621-4130.

• Mail: RMPA/EA Comments, BLM, Oklahoma Field Office, 7906 E 33rd Street, Suite 101, Tulsa, Oklahoma 74145-1352.

Documents pertinent to this proposal may be examined at the Oklahoma Field Office.

FOR FURTHER INFORMATION CONTACT: For further information and/or to have your name added to our mailing list, contact: Laurence Levesque or Richard Wymer, Co-Team Leaders, BLM, Oklahoma Field Office, 7906 E 33rd Street, Suite 101, Tulsa, Oklahoma 74145-1352, phone (918) 621-4100.

SUPPLEMENTARY INFORMATION: During the period June 2008 to April 2010, the BLM received three coal lease modification applications and one competitive coal lease application from Farrell-Cooper Mining Company, Georges Colliers Inc., and Mining Systems Corporation. These applications were for resources located outside the areas that the Oklahoma RMP designated as available for coal leasing. The RMP amendment will evaluate the four Lease Application Areas to determine suitability for further leasing consideration. The RMP amendment will be prepared in accordance with guidance provided in BLM Land Use Planning Handbook (H-1601-1). The Lease Application Areas total approximately 2,500 acres of previously unleased coal and are part of the Federal mineral estate, but have not previously undergone land-use planning analysis. The Lease Application Areas total 2,500 acres of Federal mineral estate administered by the BLM, and the surface is privately owned.

The sizes and locations of these four Lease Application Areas are as follows:

Indian Meridian, Oklahoma

T. 8 N., R. 22 E.,

Sec. 23, N½NE¼SE¼;

Sec. 24, SE¼NE¼SE¼, W½NE¼SE¼, N½SE¼SE¼, SE¼SE¼SE¼, NW¼SE¼, and N½N½SW¼;

Sec. 25, NE¼NE¼NE¼;

T. 8 N., R. 23 E.,

Sec. 19, S½SE¼SE¼, S½N½SE¼SE¼, S½SW¼SE¼, S½N½SW¼SE¼, S½SE¼SW¼, and S½N½SE¼SW¼;

Sec. 30, N½NW¼NW¼, and NW¼NE¼NW¼;

The area described contains 290 acres, according to the official plat of the survey of the said lands, on file with the BLM.

T. 9 N., R. 26 E.,

Sec. 21, N½SE¼, NE¼SW¼, and SE¼SE¼NE¼;

Sec. 22, S½, and S½S½N½;

Sec. 23, SW¼SW¼, NW¼SE¼SW¼, N½SW¼, and S½S½NW¼;

Sec. 26, NW¼NW¼NW¼;

Sec. 27, N½N½N½;

The area described contains 790 acres, according to the official plat of the survey of the said lands, on file with the BLM.

T. 10 N., R. 21 E.,

Sec. 28, SW¼, and W½SE¼;

Sec. 33, NW¼, NW¼NE¼, and N½N½N½SW¼;

The area described contains 460 acres, according to the official plat of the survey of the said lands, on file with the BLM.

T. 8 N., R. 22 E

Sec.11, E½W½, and E½;

Sec. 12, NW¼, W½NE¼, N½SW¼, NW¼SE¼, and a tract of land described as follows: Beginning at the southwest corner of Section 12, T. 8 N., R., 22 E., thence 111.61 feet N. 0°1′ W., along the west side of said section to point of beginning. Thence 5326.57 feet N. 80°45′30″ E., to a point on the east line of said section, thence 579.46 feet North along the east line of said section, thence 1316.39 feet S. 89°24′44″ W., to a point on the west line of the NE quarter of the SE quarter of said section, thence 182.04 feet S. 0°4′31″ E., along the west line of the NE quarter of the SE quarter of said section to the SW corner of the NE quarter of the SE quarter of said section, thence 1316.13 feet S. 89°33′ W., along the north line of the SW quarter of the SE quarter to the NW corner of the SW quarter of the SE quarter of said section, thence 2625.69 feet S. 89°33′ W., along the north lines of the SE quarter of the SW quarter and the SW quarter of the SW quarter to the NW corner of the SW quarter of the SW quarter of said section, thence 1208.39 feet S. 0°1′ E., along the west line of said section to the point of beginning.

Sec. 14, a tract of land described as follows: Beginning at the northeast corner of Section 14, T. 8 N., R. 22 E., thence 682.72 feet S. 89°40 W., along the north line of said section to the point of beginning. Thence 1946.72 feet S. 89°40′ W., along the north line of said section to the north quarter corner, thence 794.04 feet S. 0°1′8″ W., along the west line of the NE quarter of said section, thence 2106.95 feet N. 67°31′38″ E., to the point of beginning.

The area described contains 960 acres, according to the official plat of the survey of the said lands, on file with the BLM.

Opportunities for the public to be informed and participate will occur throughout the planning process. To ensure local community participation and input, public scoping meetings will be held in two towns strategically located near the lease application areas. Early participation by all interested parties is encouraged and will help guide the planning process. A list of attendees at each meeting and a summary of their input will be available to the public and participants may clarify their input for 30 days. The results of scoping will be sent to all parties on the mailing list for this project in a newsletter or scoping report.

The purpose of the public scoping process is to determine relevant issues that will influence the scope of the environmental analysis, including alternatives, and guide the process for developing the EIS. At present, the BLM has identified the following preliminary issues: Access and traffic; public interest/benefits regarding the extraction of the coal; identification of resource values on the private lands; and water quality. Preliminary management concerns include the following: Special status species of plants and animals; maintaining government-to-government relationships with tribal governments; socioeconomics, potential disproportionate impacts on disadvantaged communities resulting from coal lease decisions (Environmental Justice Executive Order 12898); potential for spread of noxious weeds; protection of designated streams (Clean Water Act, Section 303-d); and application of unsuitability criteria. The public is encouraged to help identify any additional issues or concerns during the initial scoping phase. Industry and other interested parties are asked to provide any information that will be useful in applying the Federal Coal Management Program defined in 43 CFR 3420 and 43 CFR 3430, including application of coal planning criteria outlined in 43 CFR 1600. Information resulting from this call for information will be used to determine potential for coal development in the application areas and likelihood of conflict with other resources.

The issue of Federal coal leasing and development will include:

1. Determining if these areas are acceptable for further coal leasing consideration with standard stipulations;

2. Determining if these areas are acceptable for consideration with special stipulations; and

3. Determining if these areas are unacceptable for further coal leasing consideration.

Any individual, business entity, or public body may participate in this process by providing coal or other resource information under this notice.

Planning criteria will be developed during the initial public scoping to help guide the planning effort. Preliminary planning criteria being considered include the following: Recognize valid existing rights; comply with existing laws, executive orders, regulations, and BLM policy and program guidance; seek public input; consider adjoining lands to minimize land-use conflict when making decisions; consider planning jurisdictions of other Federal agencies and State, local, and tribal governments; develop reasonable and sound alternatives; use current scientific data to evaluate appropriate strategies; and consider public welfare and safety.

Written comments should address one or more of the following: (1) Issues to be considered; (2) Whether the planning criteria are adequate for the issues; (3) Feasible and reasonable alternatives to examine; or (4) Relevant coal or other resource information.

The BLM will utilize and coordinate the NEPA commenting process to satisfy the public involvement process for Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7; 43 CFR 1610.2.

Linda S.C. Rundell,
State Director.

[FR Doc. 2011-15808 Filed 6-23-11; 8:45 am]

BILLING CODE 4313-AW-P